FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[June 1, 2025, through June 30, 2025]
06/05/2025
20251188 | G | BayPine Commander Co-Invest, LP; Webster Capital IV, L.P.; BayPine Commander Co-Invest, LP.
20251195 | G | Novant Health, Inc.; American Healthcare Systems Corp., Inc.; Novant Health, Inc.
20251214 | G | Silver Lake Partners VII, L.P.; Intel Corporation; Silver Lake Partners VII, L.P.
20251245 | G | Cove Hill Partners Fund II, L.P.; Swiftly Parent, Inc.; Cove Hill Partners Fund II, L.P.
20251246 | G | Sofidel S.p.A.; Royal Interco, LLC; Sofidel S.p.A.
20251254 | G | Fideicomiso F/125; Macquarie Infrastructure Partners IV, L.P.; Fideicomiso F/125.
20251256 | G | Ultra Ultimate Parent, LP; GTCR Fund XII/B LP; Ultra Ultimate Parent, LP.
20251263 | G | Altas Partners Holdings III LP; Redwood Services Holdco, LLC; Altas Partners Holdings III LP.
20251274 | G | Mayville Engineering Company, Inc.; Tide Rock YieldCo, LLC; Mayville Engineering Company, Inc.
06/06/2025
20251202 | G | WestView Capital Partners V, L.P.; Thierry and Elizabeth Beckers; WestView Capital Partners V, L.P.
20251236 | G | General Atlantic Partners 100, L.P.; EQH Parent, LLC; General Atlantic Partners 100, L.P.
20251244 | G | Church & Dwight Co., Inc.; Andrea Lisbona; Church & Dwight Co., Inc.
20251265 | G | Dream Games Dijital Teknolojiler Anonim Sirketi; Dream Games Holdings Ltd; Dream Games Dijital Teknolojiler Anonim Sirketi.
06/12/2025
20251225 | G | ISQ Global Infrastructure Fund III, L.P.; Mobico Group PLC; ISQ Global Infrastructure Fund III, L.P.
20251231 | G | Ares Acquisition Corporation II; Kodiak Robotics, Inc.; Ares Acquisition Corporation II.
20251248 | G | KKR North America Fund XIV SCSp; S&P Global Inc.; KKR North America Fund XIV SCSp.
20251249 | G | KKR North America Fund XIV SCSp; CME Group Inc.; KKR North America Fund XIV SCSp.
20251251 | G | Impactive Capital Fund LP; Advanced Drainage Systems, Inc.; Impactive Capital Fund LP.
20251262 | G | General Atlantic Partners 100, L.P.; Blackstone Capital Partners VII L.P.; General Atlantic Partners 100, L.P.
20251279 | G | AMETEK, Inc.; FARO Technologies, Inc.; AMETEK, Inc.
06/16/2025
20251237 | G | The Resolute Fund VI, L.P.; PP III Continuation Fund, L.P.; The Resolute Fund VI, L.P.
20251247 | G | BNP Paribas S.A.; AXA S.A.; BNP Paribas S.A.
20251269 | G | Marriott International, Inc.; citizenM Holding B.V.; Marriott International, Inc.
20251277 | G | HP TLE Holdings, LP; Golden Gate Capital Opportunity Fund, L.P.; HP TLE Holdings, LP.
20251295 | G | SunCoke Energy, Inc.; Flame Aggregator, LLC; SunCoke Energy, Inc.
20251297 | G | GreyLion Fund III LP; Thomas R. Testwuide, Jr. 1992 Trust; GreyLion Fund III LP.
20251301 | G | BNT Partners Trust; BAM Partners Trust; BNT Partners Trust.
20251303 | G | TSG9 L.P.; EOS Fitness Holdings LLC; TSG9 L.P.
20251304 | G | Saguaro Coinvestor Holdings L.P.; EOS Fitness Holdings, LLC; Saguaro Coinvestor Holdings L.P.
20251310 | G | BioMarin Pharmaceutical Inc.; Inozyme Pharma, Inc.; BioMarin Pharmaceutical Inc.
06/23/2025
20250614 | G | Omnicom Group Inc.; The Interpublic Group of Companies, Inc.; Omnicom Group Inc.
06/24/2025
20251284 | G | 3G Fund VI, L.P.; Robert Greenberg; 3G Fund VI, L.P.
20251314 | G | General Atlantic Partners 100, L.P.; Gravie, Inc.; General Atlantic Partners 100, L.P.
20251315 | G | Regeneron Pharmaceuticals, Inc.; Abeona Therapeutics Inc.; Regeneron Pharmaceuticals, Inc.
20251329 | G | HomeStreet, Inc.; Ford Ultimate Management II, LLC; HomeStreet, Inc.
20251330 | G | AstraZeneca PLC; Pathos AI, Inc.; AstraZeneca PLC.
20251339 | G | IW Topco LLC; KPS Special Situations Mid-Cap Fund, LP; IW Topco LLC.
06/25/2025
20250709 | S | Mars, Incorporated; Kellanova; Mars, Incorporated.
20251276 | G | Atlantic Park Strategic Capital Fund II (Offshore), L.P.; Claranova S.E.; Atlantic Park Strategic Capital Fund II (Offshore), L.P.
20251294 | G | Trident IX, L.P.; Northlane Capital Partners II LP; Trident IX, L.P.
20251299 | G | United Parcel Service, Inc.; Michael Andlauer; United Parcel Service, Inc.
20251320 | G | Novo Nordisk Foundation; Septerna, Inc.; Novo Nordisk Foundation.
06/27/2025
20250617 | S | Quest Diagnostics Incorporated; Corewell Health; Quest Diagnostics Incorporated.
20251305 | G | KKR Asian Fund IV Japan AIV 2 L.P.; Topcon Corporation; KKR Asian Fund IV Japan AIV 2 L.P.
20251306 | G | Savage Companies Inc.; James Vanasek; Savage Companies Inc.
20251307 | G | Savage Companies Inc.; P. Donnell Noone; Savage Companies Inc.
20251308 | G | TPG Partners IX, L.P.; Sabre Corporation; TPG Partners IX, L.P.
20251328 | G | WCAS XIV, L.P.; ACD Parent, LLC; WCAS XIV, L.P.
20251359 | G | Rosebank Industries PLC; Cerberus Institutional Partners VI, L.P.; Rosebank Industries PLC.

FOR FURTHER INFORMATION CONTACT: Theresa Kingsberry (phone: 202-326-3100), Program Support Specialist, Federal Trade Commission Premerger Notification Office, Bureau of Competition, Room CC-5301, Washington, DC 20024.

By direction of the Commission.
Joel Christie,
Acting Secretary.

[FR Doc. 2025-14723 Filed 8-1-25; 8:45 am]

BILLING CODE 6750-01-P